ENVIRONMENTAL PROTECTION AGENCY

40 CFR Parts 52 and 60

[EPA-R08-OAR-2005-UT-0007; FRL-8275-3]

Approval and Promulgation of Air Quality Implementation Plans; State of Utah; Administrative Procedures

AGENCY: Environmental Protection Agency (EPA).

ACTION: Proposed rule.

SUMMARY: EPA is proposing to approve a State Implementation Plan (SIP) revision submitted by the Governor of Utah on August 15, 2001. This SIP submittal deletes Utah's rules R307-102-3, “Administrative Procedures and Hearings,” and R307-414-3, “Request for Review.” EPA is proposing to remove Utah's rules R307-102-3 and R307-414-3 from Utah's federally approved SIP, because these rules are not required to be in Utah's SIP. This action is being taken under section 110 of the Clean Air Act.

Furthermore, on August 25, 2006, the Governor of Utah submitted revisions to the New Source Performance Standards (NSPS) rules in Utah's Air Conservation Regulations. We are proposing to approve updates to the NSPS “Delegation Status of New Source Performance Standards” table to indicate the State has been delegated the authority to implement and enforce NSPS and to add entries for newly delegated NSPS.

In the “Rules and Regulations” section of this Federal Register, EPA is approving the State's SIP revision as a direct final rule without prior proposal because the Agency views this as a noncontroversial SIP revision and anticipates no adverse comments. A detailed rationale for the approval is set forth in the preamble to the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

DATES: Comments must be received on or before March 5, 2007.

ADDRESSES: Submit your comments, identified by Docket ID Number EPA-R08-OAR-2005-UT-0007, by one of the following methods:

• www.regulations.gov Follow the on-line instructions for submitting comments.

• E-mail: ostrand.laurie@epa.gov and fiedler.kerri@epa.gov.

• Fax: (303) 312-6064 (please alert the individual listed in the FOR FURTHER INFORMATION CONTACT if you are faxing comments).

• Mail: Director, Air and Radiation Program, Environmental Protection Agency (EPA), Region 8, Mailcode 8P-AR, 1595 Wynkoop Street, Denver, Colorado 80202-1129.

• Hand Delivery: Director, Air and Radiation Program, Environmental Protection Agency (EPA), Region 8, Mailcode 8P-AR, 1595 Wynkoop Street, Denver, Colorado 80202-1129. Such deliveries are only accepted Monday through Friday, 8 a.m. to 4:55 p.m., excluding Federal holidays. Special arrangements should be made for deliveries of boxed information.

Please see the direct final rule which is located in the Rules Section of this Federal Register for detailed instruction on how to submit comments.

FOR FURTHER INFORMATION CONTACT: Kerri Fiedler, Air and Radiation Program, Environmental Protection Agency (EPA), Region 8, Mailcode 8P-AR, 1595 Wynkoop Street, Denver, Colorado 80202-1129, phone (303) 312-6493, and e-mail at: fiedler.kerri@epa.gov.

SUPPLEMENTARY INFORMATION: See the information provided in the Direct Final action of the same title which is located in the Rules and Regulations Section of this Federal Register.

Authority: 42 U.S.C. 7401 et seq.

Dated: January 22, 2007.
Robert E. Roberts,
Regional Administrator, Region VIII.

[FR Doc. E7-1620 Filed 1-31-07; 8:45 am]

BILLING CODE 6560-50-P